ENVIRONMENTAL PROTECTION AGENCY

40 CFR Part 52

[EPA-R05-OAR-2012-0214; FRL-9689-6]

Approval and Promulgation of Air Quality Implementation Plans; Indiana; Central Indiana (Indianapolis) Ozone Maintenance Plan Revision to Approved Motor Vehicle Emissions Budgets

AGENCY: Environmental Protection Agency (EPA).

ACTION: Final rule.

SUMMARY: EPA is approving Indiana's request to revise its Central Indiana 1997 8-hour ozone maintenance air quality State Implementation Plan (SIP) by replacing the previously approved motor vehicle emissions budgets (budgets) with budgets developed using EPA's Motor Vehicle Emissions Simulator (MOVES) emissions model. The Central Indiana 1997 8-hour ozone maintenance area consists of Marion, Boone, Hendricks, Morgan, Johnson, Shelby, Hancock, Madison, and Hamilton Counties in Indiana.

DATES: This final rule is effective on July 23, 2012.

ADDRESSES: EPA has established a docket for this action under Docket ID No. EPA-R05-OAR-2012-0214. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Patricia Morris, Environmental Scientist at (312) 353-8656 before visiting the Region 5 office.

FOR FURTHER INFORMATION CONTACT: Patricia Morris, Environmental Scientist, Control Strategies Section, Air Programs Branch (AR-18J), Environmental Protection Agency, Region 5, 77 West Jackson Boulevard, Chicago, Illinois 60604, (312) 353-8656, morris.patricia@epa.gov.

SUPPLEMENTARY INFORMATION: Throughout this document whenever “we,” “us,” or “our” is used, we mean EPA. This supplementary information section is arranged as follows:

I. What is the background for this action?

II. What public comments were received?

III. What action is EPA taking?

IV. Statutory and Executive Order Reviews

I. What is the background for this action?

On March 2, 2012, Indiana submitted for parallel processing replacement budgets based on MOVES2010a for the Central Indiana area. On April 5, 2012, EPA proposed approval in the Federal Register of the Indiana SIP submittal (77 FR 20577). The primary background for today's action is contained in EPA's April 5, 2012, proposal. The SIP revision replaces MOBILE6.2 based approved budgets in the 1997 8-hour ozone maintenance plan for Central Indiana with MOVES2010a based budgets.

Indiana submitted the final SIP revision request on April 16, 2012. The April 16, 2012, submittal letter with the state public comment documentation completed the requirements for the SIP submittal.

The MOVES model is EPA's state-of-the-art tool for estimating highway emissions. The model is based on analyses of millions of emission test results and considerable advances in EPA understanding of vehicle emissions. MOVES incorporates the latest emissions data, more sophisticated calculation algorithms, increased user flexibility, new software design, and significant new capabilities relative to those reflected in MOBILE6.2.

States that revise their existing SIPs to include MOVES budgets must show that the SIP continues to meet applicable requirements with the new level of motor vehicle emissions contained in the budgets. The transportation conformity rule (40 CFR 93.118(e)(4)(iv)) requires that “the motor vehicle emissions budgets(s), when considered together with all other emissions sources, is consistent with applicable requirements for reasonable further progress, attainment, or maintenance (whichever is relevant to the given implementation plan submission).”

EPA has determined, based on its evaluation, that the area's maintenance plan continues to serve its intended purpose with the MOVES2010a-based budgets and that the budgets themselves meet the adequacy criteria in the conformity rule at 40 CFR 93.118(e)(4). The basis for this conclusion is contained in the proposed approval (77 FR 20577) and is also based on the final submittal and completion of the public comment period. The final submittal letter and public comment documentation completed the items needed for adequacy.

The Central Indiana area has three Metropolitan Planning Organizations (MPOs) in the maintenance area (Indianapolis, Anderson and a portion of the Columbus, Indiana MPO). These three MPOs are required by the conformity rule to conduct conformity determinations together because they are all part of the same maintenance area with one set of ozone budgets for that area (there are not separate budgets for each MPO). The budgets are being updated, not only to accommodate the use of MOVES2010a, but also because of the updated planning assumptions for mobile sources. The April 16, 2012, submittal letter with the public comment documentation completed the requirements for the SIP submittal.

Once EPA approves the submitted budgets, they must be used by local, state and Federal agencies in determining whether transportation activities conform to the SIP as required by section 176(c) of the Clean Air Act (CAA).

II. What public comments were received?

The State public comment period was from March 1, 2012, until March 30, 2012. A public hearing was offered but was not requested. No public comments were received by Indiana during the comment period.

The Federal Register proposing approval was published on April 5, 2012, and the public comment period closed on May 7, 2012.

No comments were received during the public comment period.

III. What action is EPA taking?

EPA is approving new MOVES2010a-based budgets for the Central Indiana 1997 ozone maintenance area because the submitted budgets will continue to keep emissions below the attainment level and maintain air quality. On the effective date of this rulemaking, the submitted MOVES2010a budgets will replace the existing, MOBILE6.2-based budgets in the state's 1997 8-hour ozone maintenance plan and will be used in future transportation conformity analyses for the area. The previously approved MOBILE6.2 budgets will no longer be applicable for transportation conformity purposes.

Motor Vehicle Emission Budgets for 8-Hour Ozone for Central Indiana
Year | 2006 | 2020
NOX tons/day | 210.93 | 69.00
VOC tons/day | 64.32 | 25.47

IV. Statutory and Executive Order Reviews

Under the Clean Air Act, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 20, 2012. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxides, Ozone, Volatile organic compounds.

Dated: June 11, 2012.
Susan Hedman,
Regional Administrator, Region 5.

40 CFR part 52 is amended as follows:

PART 52—[AMENDED]

1. The authority citation for part 52 continues to read as follows:

Authority: 42 U.S.C. 7401 et seq.

Subpart P—Indiana

2. Section 52.777(jj) is amended by redesignating the existing paragraph as paragraph (jj)(1) and by adding new paragraph (jj)(2) to read as follows:

§ 52.777 Control Strategy: photochemical oxidants (hydrocarbons).

* * * * *

(jj) * * *

(2) Approval—On April 16, 2012, Indiana submitted a request to revise the approved MOBILE6.2 motor vehicle emission budgets (budgets) in the 1997 8-hour ozone maintenance plan for the Central Indiana area. The budgets are being revised with budgets developed with the MOVES2010a model. The 2006 budgets for Central Indiana are 64.32 tons per day volatile organic compounds (VOCs) and 210.93 tons per day nitrogen oxides (NOX) and 2020 budgets are 25.47 tons per day VOCs and 69.00 tons per day of NOX.

* * * * *

[FR Doc. 2012-14949 Filed 6-20-12; 8:45 am]

BILLING CODE 6560-50-P